DEPARTMENT OF COMMERCE

National Oceanic and Atmospheric Administration

50 CFR Part 622

[Docket No. 190725-0004]

RIN 0648-BI11

Fisheries of the Caribbean, Gulf of Mexico, and South Atlantic; Spiny Lobster Fishery of the Gulf of Mexico and South Atlantic; Amendment 13; Correction

AGENCY: National Marine Fisheries Service (NMFS), National Oceanic and Atmospheric Administration (NOAA), Commerce.

ACTION: Final rule; correction.

SUMMARY: This action corrects the SUPPLEMENTARY INFORMATION section to the final rule published on July 31, 2019, which had an incorrect numeral in the citation for a previously published notice. This correction provides a revision to the citation.

DATES: Effective August 30, 2019.

ADDRESSES: Electronic copies of Amendment 13 may be obtained from the Southeast Regional Office website at https://www.fisheries.noaa.gov/action/amendment-13-modifications-spiny-lobster-gear-requirements-and-cooperative-management. Amendment 13 includes an environmental assessment, a fishery impact statement, a Regulatory Flexibility Act (RFA) analysis, and a regulatory impact review.

FOR FURTHER INFORMATION CONTACT: Kelli O'Donnell, Southeast Regional Office, NMFS, telephone: 727-824-5305; email: Kelli.ODonnell@noaa.gov.

SUPPLEMENTARY INFORMATION:

Need for Correction

In a final rule NMFS published on July 31, 2019, beginning on page 37149, make the following correction in the SUPPLEMENTARY INFORMATION section. On page 37149 in the third column, revise the first sentence of the second paragraph to read as follows:

“On April 2, 2019, NMFS published a notice of availability (NOA) for Amendment 13 and requested public comment (84 FR 12573).”

Dated: August 14, 2019.
Alan D. Risenhoover,
Acting Deputy Assistant Administrator for Regulatory Programs, National Marine Fisheries Service.

[FR Doc. 2019-17909 Filed 8-20-19; 8:45 am]

BILLING CODE 3510-22-P